DEPARTMENT OF ENERGY

Federal Energy Regulatory Commission

Notice of Commission Staff Attendance

The Federal Energy Regulatory Commission (Commission) hereby gives notice that members of the Commission's staff may attend the following meeting related to the transmission planning activities of the Florida Reliability Coordinating Council, Inc.'s (FRCC) Regional Transmission Planning Process.

The FRCC Open Stakeholder Meeting

August 26, 2015, 9:30 a.m.-11:00 p.m. (Eastern Time)

The above-referenced meeting will be via Web conference.

The above-referenced meeting is open to stakeholders.

Further information may be found at: https://www.frcc.com/order1000/default.aspx.

The discussions at the meeting described above may address matters at issue in the following proceedings:

Docket No. ER13-80-006, Tampa Electric Company.

Docket No. ER13-86-006, Duke Energy Carolinas, LLC.

Docket No. ER13-104-007, Florida Power & Light Company.

Docket No. NJ15-15-000, Orlando Utilities Commission.

For more information, contact Rhonda Jones, Office of Energy Market Regulation, Federal Energy Regulatory Commission at (202) 502-6154 or Rhonda.Jones@ferc.gov.

Dated: August 19, 2015.
Kimberly D. Bose,
Secretary.

[FR Doc. 2015-20989 Filed 8-24-15; 8:45 am]

BILLING CODE 6717-01-P